DEPARTMENT OF THE INTERIOR

National Park Service

[NPS-NER-NPS0027438; PPNEHATUC0, PPMRSCR1Y.CU0000 (199); OMB Control Number 1024-0232]

Agency Information Collection Activities; National Underground Railroad Network to Freedom Program

AGENCY: National Park Service, Interior.

ACTION: Notice of information collection; request for comment.

SUMMARY: In accordance with the Paperwork Reduction Act of 1995, we, the National Park Service (NPS) are proposing to renew an information collection.

DATES: Interested persons are invited to submit comments on or before July 29, 2019.

ADDRESSES: Send your comments on this information collection request (ICR) by mail to Phadrea Ponds, Acting NPS Information Collection Clearance Officer, 1201 Oakridge Drive, Fort Collins, CO 80525; or by email at phadrea_ponds@nps.gov; or by telephone at 970-267-7231. Please reference OMB Control Number 1024-0232 in the subject line of your comments.

FOR FURTHER INFORMATION CONTACT: To request additional information about this ICR by mail contact Diane Miller, National Manager, National Underground Railroad Network to Freedom Program, National Park Service, Harriet Tubman Underground Railroad Visitor Center, 4068 Golden Hill Road, Church Creek, Maryland 21622; or by email at diane_miller@nps.gov; or by telephone at 410-221-2290. Please reference OMB Control Number 1024-0232 in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Underground Railroad Network to Freedom Act of 1998 (54 U.S.C. 308301, et seq.) authorizes this information collection. The NPS uses this information to coordinate the preservation and education efforts nationwide that integrates local historical places, museums, and interpretive programs associated with the Underground Railroad into a mosaic of community, regional, and national stories.

All entities that want to join the Network must have a verifiable association with the historic Underground Railroad movement and complete NPS Form 10-946 (National Underground Railroad Network to Freedom Application) available on our website at http://www.nps.gov/subjects/ugrr/index.htm. Respondents must (1) verify associations and characteristics through descriptive texts that are the result of historical research and (2) submit supporting documentation; e.g., copies of rare documents, photographs, and maps. Much of the information is submitted in electronic format and used to determine eligibility to become part of the Network.

Network to Freedom Program Partners work with the NPS to help validate the efforts of local and regional organizations, making it easier for them to share their expertise and communicate with us and each other. Prospective partners must submit a letter with the following information:

• Name and address of the agency, company or organization;

• Name, address, and phone, fax, and email information of principal contact;

• Abstract not to exceed 200 words describing the partner's activity or mission statement; and

• Brief description of the entity's association to the Underground Railroad.

Title of Collection: National Underground Railroad Network to Freedom Program.

OMB Control Number: 1024-0232.

Form Number: NPS Form 10-946—National Underground Railroad Network to Freedom Application.

Type of Review: Extension of a currently approved collection.

Respondents/Affected Public: Individuals; businesses; nonprofit organizations; and Federal, State, tribal, and local governments.

Respondent's Obligation: Required to obtain or retain a benefit.

Frequency of Collection: On occasion.

Total Estimated Annual Nonhour Burden Cost: None.

Activity/requirement | Estimated number of annual respondents | Estimated number of annual responses | Completion time per response (hours) | Estimated total annual burden hours
Network Applications (Form 10-946) | 35 | 35 | 40 | 1,400
Partner Requests | 2 | 2 | .5 | 1
Total | 37 | 37 |  | 1,401

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2019-11065 Filed 5-24-19; 8:45 am]

BILLING CODE 4312-52-P